Title 3—

The President

Memorandum of May 23, 2025

Presidential Waiver of Statutory Requirements Pursuant to Section 303 of the Defense Production Act of 1950: Reviving the Manufacturing and Defense Industrial Base for Munitions and Minerals

Memorandum for the Secretary of Defense

By the authority vested in me as President by the Constitution and the laws of the United States of America, including section 303 of the Defense Production Act of 1950, as amended (the “Act”) (title 50, U.S.C., § 4533), I hereby determine, pursuant to section 303(a)(7)(B) of the Act, that action is necessary to increase production capacity of munitions, missiles and associated equipment, and minerals and that shortfalls in these areas would severely impair national defense capability. Therefore, I waive the requirements of section 303(a)(2) through (a)(6) of the Act for supply chains associated with munitions, missiles and associated equipment, and critical minerals, as defined by title 30, U.S.C., § 1606(a)(3), as well as uranium, copper, potash, and gold.

Ensuring a robust, resilient, and sustainable domestic industrial base is essential to our national security and the preservation of domestic critical infrastructure. You are authorized and directed to publish this memorandum in the Federal Register.

THE WHITE HOUSE,

Washington, May 23, 2025

[FR Doc. 2025-10322

Filed 6-3-25; 11:15 am]

Billing code 6001-FR-P